DEPARTMENT OF THE TREASURY

Submission for OMB Review; Comment Request

December 26, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW, Washington, DC 20220.

DATES: Written comments should be received on or before February 5, 2007 to be assured of consideration.

Alcohol and Tobacco Tax and Trade Bureau (TTB)

OMB Number: 1513-0032.

Type of Review: Extension.

Title: Inventory—Manufacturer of Tobacco Products.

Form: TTB 5210.9.

Description: This form is necessary to determine the beginning and ending inventories of tobacco products at the premises of a tobacco products manufacturer. The information is recorded on this form by the proprietor and is used to determine tax liability, compliance with regulations, and for protection of the revenue.

Respondents: Business and other for profits.

Estimated Total Burden Hours: 850 hours.

OMB Number: 1513-0059.

Type of Review: Extension.

Title: Usual and Customary Business Records Relating to Tax-Free Alcohol TTB REC 5150/3.

Form: TTB REC 5150/3.

Description: Tax-free alcohol is used for nonbeverage purposes by educational organizations, hospitals, laboratories, etc. These records maintain accountability of spirits and, protect tax revenue and public safety.

Respondents: Federal government, State, local and Tribal government.

Estimated Total Burden Hours: 1 hours.

OMB Number: 1513-0061.

Type of Review: Extension.

Title: Letterhead Applications and Notices Relating to Denatured Spirits TTB REC 5150/2.

Form: TTB REC 5150/2.

Description: Denatured spirits are used for nonbeverage industrial purposes in the manufacture of person and household products. Permits, applications, and notices control the authorized uses and flow of denatured spirits, and protect the tax revenue and public safety.

Respondents: Not-for-profit institutions, State, local and Tribal government.

Estimated Total Burden Hours: 1,693 hours.

OMB Number: 1513-0068.

Type of Review: Extension.

Title: Tobacco Products Manufacturer—Records of Operations TTB REC 5210/1.

Form: TTB REC 5210/1.

Description: Tobacco Products manufacturer must maintain records that provide accountability over the tobacco products received and produced. These records ensure that each tobacco product's transaction can be traced and ensure that tax liabilities are totally satisfied.

Respondents: Business and other for profits.

Estimated Total Burden Hours: 25,500 hours.

OMB Number: 1513-0071.

Type of Review: Extension.

Title: Tobacco Products Importer or Manufacturer—Records of Large Cigar Wholesale Prices TTB REC 5230/1.

Form: TTB REC 5230/1.

Description: Because the tax on large cigars is based on the sales price, these records are needed to verify that the correct tax has been determined by the manufacturer or importer.

Respondents: Business and other for profits.

Estimated Total Burden Hours: 1,906 hours.

OMB Number: 1513-0087.

Type of Review: Revision.

Title: Labeling and Advertising Requirements Under the Federal Alcohol Administration Act.

Description: Bottlers and importers of alcohol beverages must adhere to numerous performance standards for statements made on labels and in advertisements of alcohol beverages. These performance standards include minimum mandatory labeling and advertising statements.

Respondents: Business and other for profits.

Estimated Total Burden Hours: 6,060 hours.

Clearance Officer: Frank Foote (202) 927-9347, Alcohol and Tobacco Tax and Trade Bureau, Room 200 East, 1310 G Street, NW., Washington, DC 20005.

OMB Reviewer: Alexander T. Hunt, (202) 395-7316, Office of Management and Budget, Room 10235, New Executive Office Building, Washington, DC 20503.

Michael A. Robinson,
Treasury PRA Clearance Officer.

[FR Doc. E6-22550 Filed 1-3-07; 8:45 am]

BILLING CODE 4810-31-P